DEPARTMENT OF TRANSPORTATION

Federal Aviation Administration

14 CFR Part 71

[Docket No. FAA-2010-0354, Airspace Docket No. 10-AAL-10]

Establishment of Class E Airspace; Port Clarence, AK

AGENCY: Federal Aviation Administration (FAA), DOT.

ACTION: Final rule; delay of effective date, correction.

SUMMARY: This action changes the effective date for the establishment of Class E airspace at Port Clarence Coast Guard Station (CGS) Airport, Port Clarence, AK. The charting of this airspace has been delayed; therefore the effective date of the establishment of the Class E airspace area also must be delayed. A minor correction to a geographic coordinate also will be made.

DATES: This correction is effective 0901 UTC, May 5, 2011, and the effective date of FR Doc. 2010-25479, published on October 12, 2010 (75 FR 62457) and corrected by FR Doc. 2010-32293, published on December 27, 2010 (75 FR 62457) is delayed to 0901 UTC, May 5. 2011.

The Director of the Federal Register approves this incorporation by reference action under title 1, Code of Federal Regulations, part 51, subject to the annual revision of FAA Order 7400.9 and publication of conforming amendments.

FOR FURTHER INFORMATION CONTACT: Martha Dunn, AAL-538G, Federal Aviation Administration, 222 West 7th Avenue, Box 14, Anchorage, AK 99513-7587; telephone number (907) 271-5898; fax: (907) 271-2850; e-mail: Martha.ctr.Dunn@faa.gov. Internet address: http://www.faa.gov/about/office_org/headquarters_offices/ato.service_units/systemops/fs/alaskan/rulemaking/.

SUPPLEMENTARY INFORMATION:

History

Federal Register Document FAA-2010-0354, Airspace Docket No. 10-AAL-10, published on Monday, December 27, 2010 [75 FR 81110] makes a correction to the boundary description that establishes Class E airspace at Port Clarence CGS Airport, Port Clarence, AK. Subsequent to publication, the FAA's Aeronautical Products office stated that more time was needed to chart the airspace. Therefore, this action will delay the effective date of January 13, 2011, to May 5, 2011, to allow better coordination for the charting of this airspace. An error also was discovered in the regulatory text for a latitudinal coordinate. This action corrects this error.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it creates Class E airspace sufficient in size to contain aircraft executing instrument procedures for the Port Clarence CGS Airport and represents the FAA's continuing effort to safely and efficiently use the navigable airspace.

List of Subjects in 14 CFR Part 71

Airspace, Incorporation by reference, Navigation (air).

PART 71—[AMENDED]

Delay of Effective Date

The effective date on Airspace Docket No. 10-AAL-10, published on October 12, 2010 (75 FR 62457) and corrected on December 27, 2010 (75 FR 62457) is hereby delayed from January 13, 2011, to May 5, 2011.

Authority: 49 U.S.C. 106(g), 40103, 40113, 40120; E.O. 10854, 24 FR 9565, 3 CFR, 1959-1963 Comp., p. 389.

Correction to Final Rule

Accordingly, pursuant to the authority delegated to me, the Class E airspace legal description for Port Clarence CGS Airport, published in the Federal Register, December 27, 2010 (75 FR 81110), FR Doc. 2010-32293, page 81110, column 3, line 14, is corrected as follows:

§ 71.1 [Corrected]

* * * * *

AAL AK E5 Port Clarence, AK [Corrected]

By removing “lat. 60°00′00″ N., Long. 168°58′23″ W., and substituting “65°00′00″ N., 168°58′23″ W.

Issued in Washington, DC, on January 12, 2011.
Edith V. Parish,
Manager, Airspace, Regulations and ATC Procedures Group.

[FR Doc. 2011-944 Filed 1-13-11; 4:15 pm]

BILLING CODE 4910-13-P